OFFICE OF PERSONNEL MANAGEMENT

5 CFR Part 575

RIN 3206-AK01

Extended Assignment Incentives

Correction

In rule document 03-23132 beginning on page 53667 in the issue of Friday, September 12, 2003 make the following correction:

§575.511 [Corrected]

On page 53671, in the first column, in §575.511, in the first line “is voluntarily” should read “is involuntarily”.

[FR Doc. C3-23132 Filed 9-30-03; 8:45 am]

BILLING CODE 1505-01-D